DEPARTMENT OF ENERGY

Federal Energy Regulatory Commission

18 CFR Part 385

[Docket No. RM98-1-000; Order No. 607]

Regulations Governing Off-the-Record Communications; Correction

March 31, 2000.

AGENCY: Federal Energy Regulatory Commission, DOE.

ACTION: Final rule; correction.

SUMMARY: The Federal Energy Regulatory Commission (“Commission”) published in the Federal Register of September 22, 1999, a document revising its rules concerning communications between persons outside the Commission and the Commission and its employees. One amendatory instruction for Part 385 was incorrectly stated. This document corrects that amendatory instruction.

DATES: Effective on April 7, 2000.

FOR FURTHER INFORMATION CONTACT: Julia A. Lake, Attorney, Federal Energy Regulatory Commission, 888 First Street, NW, Washington, DC 20426; phone: 202-208-2019; e-mail: julia.lake@ferc.fed.us.

SUPPLEMENTARY INFORMATION: The Federal Energy Regulatory Commission (“Commission”) published in the Federal Register of September 22, 1999, a document revising its rules concerning communications between persons outside the Commission and the Commission and its employees. One amendatory instruction for Part 385 was incorrectly stated. This document corrects that amendatory instruction.

In rule FR Doc. 99-24616 published on September 22, 1999 (64 FR 51222), make the following correction. On page 51234, in the first column, correct amendatory instruction 2 to read as follows:

“2. In § 385.101, remove paragraph (b)(4).”

Dated: March 31, 2000.
Linwood A. Watson, Jr.,
Acting Secretary.

[FR Doc. 00-8458 Filed 4-6-00; 8:45 am]

BILLING CODE 6717-01-M